NUCLEAR REGULATORY COMMISSION

Biweekly Notice; Applications and Amendments to Facility Operating Licenses Involving No Significant Hazards Considerations

I. Background

Pursuant to section 189a.(2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from September 13, 2007 to September 26, 2007. The last biweekly notice was published on September 25, 2007 (72 FR 54771).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) Involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination. Within 60 days after the date of publication of this notice, the licensee may file a request for a hearing with respect to issuance of the amendment to the subject facility operating license and any person whose interest may be affected by this proceeding and who wishes to participate as a party in the proceeding must file a written request for a hearing and a petition for leave to intervene.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, Division of Administrative Services, Office of Administration, U.S. Nuclear Regulatory Commission, Washington, DC 20555-0001, and should cite the publication date and page number of this Federal Register notice. Written comments may also be delivered to Room 6D22, Two White Flint North, 11545 Rockville Pike, Rockville, Maryland, from 7:30 a.m. to 4:15 p.m. Federal workdays. Copies of written comments received may be examined at the Commission's Public Document Room (PDR), located at One White Flint North, Public File Area O1F21, 11555 Rockville Pike (first floor), Rockville, Maryland. The filing of requests for a hearing and petitions for leave to intervene is discussed below.

Within 60 days after the date of publication of this notice, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland, 20852, Attention: Rulemaking and Adjudications Staff; (3) e-mail addressed to the Office of the Secretary, U.S. Nuclear Regulatory Commission, HearingDocket@nrc.gov; or (4) facsimile transmission addressed to the Office of the Secretary, U.S. Nuclear Regulatory Commission, Washington, DC, Attention: Rulemakings and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to (301) 415-3725 or by e-mail to OGCMailCenter@nrc.gov. A copy of the request for hearing and petition for leave to intervene should also be sent to the attorney for the licensee.

Nontimely requests and/or petitions and contentions will not be entertained absent a determination by the Commission or the presiding officer of the Atomic Safety and Licensing Board that the petition, request and/or the contentions should be granted based on a balancing of the factors specified in 10 CFR 2.309(a)(1)(i)-(viii).

For further details with respect to this action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

Duke Power Company LLC, Docket Nos. 50-269, 50-270, and 50-287, Oconee Nuclear Station, Units 1, 2, and 3, Oconee County, SC

Date of amendment request: January 31, 2007.

Description of amendment request: The proposed amendments would revise the Technical Specifications to remove requirements that are no longer applicable due to the completion of the control room intake/booster fan modifications.

Basis for proposed no significant hazards consideration determination: As required by 10 CFR 50.91(a), the licensee has provided its analysis of the issue of no significant hazards consideration, which is presented below:

(1) Involve a significant increase in the probability or consequences of an accident previously evaluated:

The proposed change to Technical Specification 3.7.9 removes out of date requirements associated with temporary extensions of Required Action Completion Times that are not applicable because of the completion of the Control Room Intake/Booster Fan Modification. As such, the proposed change is administrative. No actual plant equipment, operating practices, or accident analyses are affected by this change. Therefore, the proposed change does not involve a significant increase in the probability or consequences of an accident previously evaluated.

(2) Create the possibility of a new or different kind of accident from any kind of accident previously evaluated:

The proposed change to Technical Specification 3.7.9 removes out of date requirements associated with a temporary extension of Required Actions Completion Times that are no longer applicable because of the completion of the Control Room Intake/Booster Fan Modification. As such, the proposed changes are administrative. No actual plant equipment, operating practices, or accident analyses are affected by this change. No new accident causal mechanisms are created as a result of this change. The proposed change does not impact any plant systems that are accident initiators; neither does it adversely impact any accident mitigating systems. Therefore, this change does not create the possibility of a new or different kind of accident from any accident previously evaluated.

(3) Involve a significant reduction in a margin of safety: The proposed change does not adversely affect any plant safety limits, set points, or design parameters. The change also does not adversely affect the fuel, fuel cladding, Reactor Coolant System, or containment integrity. The proposed change eliminates out of date requirements and is administrative in nature. Therefore the proposed change does not involve a reduction in a margin of safety.

The NRC staff has reviewed the licensee's analysis and, based on this review, it appears that the three standards of 10 CFR 50.92(c) are satisfied. Therefore, the NRC staff proposes to determine that the amendment request involves no significant hazards consideration.

Attorney for licensee: Ms. Lisa F. Vaughn, Associate General Counsel and Managing Attorney, Duke Energy Carolinas, LLC, 526 South Church Street, EC07H, Charlotte, NC 28202.

NRC Branch Chief: Evangelos C. Marinos.

Entergy Operations, Inc., Docket No. 50-368, Arkansas Nuclear One, Unit No. 2, Pope County, AR

Date of amendment request: August 30, 2007.

Description of amendment request: The proposed amendment will revise the Limiting Condition for Operation (LCO) in Arkansas Nuclear One, Unit 2 (ANO-2), Technical Specification 3.1.3.4, “CEA Drop Time,” by revising the amount of time for an individual Control Element Assembly (CEA) to travel from a fully withdrawn position until it reaches the 90 percent insertion position. The current limit is ≤ 3.5 seconds. The proposed limit is ≤ 3.7 seconds. The arithmetic average drop time or the associated delay times are not impacted by the proposed change. This change is necessary to support the implementation of Next Generation Fuel in the next operating cycle.

Basis for proposed no significant hazards consideration determination: As required by 10 CFR 50.91(a), the licensee has provided its analysis of the issue of no significant hazards consideration, which is presented below:

1. Does the proposed change involve a significant increase in the probability or consequences of an accident previously evaluated?

Response: No.

The proposed change to the CEA drop time requirements have been evaluated for impact on the ANO-2 accident analyses. The change involves only an acceptance criterion for equipment performance and not physical changes. The CEA drop time acceptance criteria are used to develop trip reactivity insertion rates which are in turn used as inputs to the accident analyses.

Previous analyses demonstrated that the calculated trip reactivity for a realistic distributed CEA drop pattern is the same as the trip reactivity calculated for the nondistributed pattern. The current evaluations reverified this approach. The only difference is the maximum time limit for an individual CEA. Since the trip reactivity assumed in the accident analyses is not adversely impacted by consideration of a distributed CEA drop pattern with a larger distribution around the same average position, the proposed limits will not increase the probability or consequences of an accident previously evaluated.

2. Does the proposed change create the possibility of a new or different kind of accident from any accident previously evaluated?

Response: No.

The proposed change does not involve any new or modified structures, systems, or components; rather, it affects only an acceptance criterion for confirming the required performance of the existing CEA hardware. Therefore, the proposed change would not create the possibility of a new or different kind of accident from any previously evaluated.

3. Does the proposed change involve a significant reduction in a margin of safety?

Response: No.

The margins of safety related to CEA insertion are defined by the analyzed events in the Safety Analysis Report which credit the insertion. As demonstrated above, the proposed limits on the CEA drop time have no adverse impact on the accident analyses. Therefore, the margins of safety reflected in the accident analysis conclusions are not reduced.

The NRC staff has reviewed the licensee's analysis and, based on this review, it appears that the three standards of 10 CFR 50.92(c) are satisfied. Therefore, the NRC staff proposes to determine that the amendment request involves no significant hazards consideration.

Attorney for licensee: Terence A. Burke, Associate General Council—Nuclear Entergy Services, Inc., 1340 Echelon Parkway, Jackson, Mississippi 39213.

NRC Branch Chief: Thomas G. Hiltz.

Entergy Gulf States, Inc., and Entergy Operations, Inc., Docket No. 50-458, River Bend Station, Unit 1, West Feliciana Parish, LA

Date of amendment request: September 13, 2007.

Description of amendment request: The proposed change will add a License Condition 2.C to the Facility Operating License NPF-47 that allows River Bend Station, Unit 1, Technical Specifications (TS) surveillance intervals to be extended on a one-time basis for the fourteenth Fuel Cycle to account for the effects of a delayed refueling outage. The affected surveillances involve the 18-month hydrogen mixing system flow test and the 18-month Channel Calibration and Logic System Functional tests for one channel of a particular reactor water level instrument system. The reactor water level instrument channel provides an automatic signal to the following functions: Main Steam Line Isolation, Primary Containment and Drywell Isolation, Reactor Water Cleanup System Isolation, Secondary Containment and Fuel Building Isolation, and the Control Room Fresh Air System.

Basis for proposed no significant hazards consideration determination: As required by 10 CFR 50.91(a), the licensee has provided its analysis of the issue of no significant hazards consideration, which is presented below:

1. Does the proposed change involve a significant increase in the probability or consequences of an accident previously evaluated?

Response: No.

The requested action is a one-time extension to the performance interval of certain TS surveillance requirements. The performance of the surveillances, or the failure to perform the surveillances, is not a precursor to an accident. Performing the surveillances or failing to perform the surveillances does not affect the probability of an accident. Therefore, the proposed delay in performance of the surveillance requirements in this amendment request does not increase the probability of an accident previously evaluated.

A delay in performing the surveillances does not result in a system being unable to perform its required function. Additionally, the defense in depth of the system design provides additional confidence that the safety function is maintained. In the case of this one-time extension request, the relatively short period of additional time that the systems and components will be in service before the next performance of the surveillance will not affect the ability of those systems to operate as designed. Therefore, the system required to mitigate accidents will remain capable of performing their required function. No new failure modes have been introduced because of this action and the consequences remain consistent with previously evaluated accidents. Therefore, the proposed delay in performance of the surveillance requirement in this amendment request does not involve a significant increase in the consequences of an accident.

Therefore, the proposed change does not involve a significant increase in the probability or consequences of an accident previously evaluated.

2. Does the proposed change create the possibility of a new or different kind of accident from any accident previously evaluated?

Response: No.

The proposed amendment does not involve a physical alteration of any system, structure, or component (SSC) or a change in the way any SSC is operated. The surveillance intervals of the level instrumentation are currently evaluated for 30 months which bounds the requested interval extension. The proposed amendment does not involve operation of any SSCs in a manner or configuration different from those previously recognized or evaluated. No new failure mechanisms will be introduced by the one-time surveillance requirement deferrals being requested.

Therefore, the proposed change does not create the possibility of a new or different kind of accident from any previously evaluated.

3. Does the proposed change involve a significant reduction in a margin of safety?

Response: No.

The proposed amendment is a one-time extension of the performance interval of certain TS surveillance requirements. Extending the surveillance requirements does not involve a modification of any TS Limiting Conditions for Operation. Extending the surveillance requirements do not involve a change to any limit on accident consequences specified in the license or regulations. Extending the surveillance requirements does not involve a change to how accidents are mitigated or a significant increase in the consequences of an accident. Extending the surveillance requirements does not involve a change in a methodology used to evaluate consequences of an accident. Extending these surveillance requirements does not involve a change in any operating procedure or process. The surveillance intervals of the level instrumentation are currently evaluated for 30 months which bounds the requested interval extension.

The components involved in this request have exhibited reliable operation based on the results of the most recent performances of their 18-month surveillance requirements and the associated functional surveillances.

Based on the limited additional period of time that the systems and components will be in service before the surveillance is next performed, as well as the operating experience that these surveillances are typically successful when performed, it is reasonable to conclude that the margin of safety associated with the surveillance requirement will not be affected by the requested extension.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Terence A. Burke, Associate General Council—Nuclear Entergy Services, Inc., 1340 Echelon Parkway, Jackson, Mississippi 39213.

NRC Branch Chief: Thomas G. Hiltz.

Nuclear Management Company, LLC, Docket Nos. 50-282 and 50-306, Prairie Island Nuclear Generating Plant, Units 1 and 2, Goodhue County, MN

Date of amendment request: July 19, 2007.

Description of amendment request: The changes in the proposed amendments are consistent with Regulatory Guide 1.52, “Design, Inspection, and Testing Criteria for Air Filtration and Adsorption Units of Post-Accident Engineered-Safety-Feature Atmosphere Cleanup Systems in Light-Water-Cooled Nuclear Power Plants, Revision 3.” The licensee proposed the following changes to technical specifications (TS) for the Prairie Island Nuclear Generating Plant (PINGP) Units 1 and 2:

1. TS 3.6.9, “Shield Building Ventilation System”: Revise Surveillance Requirement (SR) 3.6.9.1 to require testing for greater than or equal to 15 minutes every 31 days.

2. TS 3.7.12, “Auxiliary Building Special Ventilation System”: Revise SR 3.7.12.1 to require testing for greater than or equal to 15 minutes every 31 days.

3. TS 3.7.13, “Spent Fuel Pool Special Ventilation System”: Revise SR 3.173.1 to require testing for greater than or equal to 15 minutes every 31 days.

4. TS 5.5.9, “Ventilation Filter Testing Program”: Revise the first paragraph of this TS to require performance of the required program testing every 24 months.

Basis for proposed no significant hazards consideration determination: As required by 10 CFR 50.91(a), the licensee has provided its analysis of the issue of no significant hazards consideration, which is presented below:

1. Does the proposed change involve a significant increase in the probability or consequences of an accident previously evaluated?

Response: No.

This license amendment request proposes changes to Surveillance Requirements for the Shield Building Ventilation System, Auxiliary Building Special Ventilation System, and Spent Fuel Pool Special Ventilation System which revise the required system run-time with their filter heaters on. This license amendment request also proposes to revise the Frequency for performance of filter tests for these systems and the Control Room Special Ventilation System.

These systems are not accident initiators and therefore, these changes do not involve a significant increase in the probability of an accident. The proposed system and filter testing changes are consistent with current regulatory guidance for these systems and will continue to assure that these systems perform their design function. Thus these changes do not involve a significant increase in the consequences of an accident.

Therefore, the proposed changes do not involve a significant increase in the probability or consequences of an accident previously evaluated.

2. Does the proposed change create the possibility of a new or different kind of accident from any accident previously evaluated?

Response: No.

This license amendment request proposes changes to Surveillance Requirements for the Shield Building Ventilation System, Auxiliary Building Special Ventilation System, and Spent Fuel Pool Special Ventilation System which revise the required system run-time with their filter heaters on. This license amendment request also proposes to revise the Frequency for performance of filter tests for these systems and the Control Room Special Ventilation System.

The changes proposed for these safeguards ventilation systems do not change any system operations or maintenance activities. Testing requirements will be revised and will continue to demonstrate that the Limiting Conditions for Operation are met and the system components are functional. These changes do not create new failure modes or mechanisms and no new accident precursors are generated.

Therefore, the proposed changes do not create the possibility of a new or different kind of accident from any previously evaluated.

3. Does the proposed change involve a significant reduction in a margin of safety?

Response: No.

This license amendment request proposes changes to Surveillance Requirements for the Shield Building Ventilation System, Auxiliary Building Special Ventilation System, and Spent Fuel Pool Special Ventilation System which revise the required system run-time with their filter heaters on. This license amendment request also proposes to revise the Frequency for performance of filter tests for these systems and the Control Room Special Ventilation System.

The design basis for the safeguards ventilation systems' heaters is to heat the incoming air which reduces the relative humidity. The heater testing changes proposed in this license amendment request will continue to demonstrate that the heaters are capable of heating the air, will perform their design function and are consistent with regulatory guidance, and thus these changes do not involve a significant reduction in a margin of safety. Periodic testing of the safeguards ventilation systems' filters is required to demonstrate that the filters perform their design function. The Frequency for performance of these filter tests proposed in this license amendment request will continue to demonstrate that the filters perform their intended function, is consistent with regulatory guidance and thus does not involve a significant reduction in a margin of safety.

Therefore, the proposed changes do not involve a significant reduction in a margin of safety.

The NRC staff has reviewed the licensee's analysis and, based on this review, it appears that the three standards of 10 CFR 50.92(c) are satisfied. Therefore, the NRC staff proposes to determine that the amendment requests involve no significant hazards consideration.

Attorney for licensee: Jonathan Rogoff, Esquire, Vice President, Counsel & Secretary, Nuclear Management Company, LLC, 700 First Street, Hudson, WI 54016.

NRC Acting Branch Chief: Travis L. Tate.

Omaha Public Power District, Docket No. 50-285, Fort Calhoun Station, Unit No. 1, Washington County, NE

Date of amendment request: September 11, 2007.

Description of amendment request: In August 2006, OPPD submitted a license amendment request to replace trisodium phosphate with sodium tetraborate (NaTB) for one cycle. By letter dated November 13, 2006, the U.S. Nuclear Regulatory Commission staff approved this request. The proposed amendment will revise Technical Specifications (TS) 2.3(4), “Containment Sump Buffering Agent Specification and Volume Requirement,” and TS 3.6, “Surveillance Requirements,” to allow the permanent use of NaTB as the containment sump buffering agent.

Basis for proposed no significant hazards consideration determination: As required by 10 CFR 50.91(a), the licensee has provided its analysis of the issue of no significant hazards consideration, which is presented below:

1. Does the proposed change involve a significant increase in the probability or consequences of an accident previously evaluated?

Response: No.

There are no changes to the design or operation of the plant affecting structures, systems, and components (SSCs) or accident functions due to long-term use of sodium tetraborate (NaTB). Similarly, there are no changes to the design or operation of the plant affecting SSCs or accident functions because of revising the volume of buffering agent required during Operating Modes 1 and 2. The changes are necessary due to the lower density of NaTB that will be obtained from a new vendor and provide for additional pH [potential of hydrogen] control margin in the post loss-of-coolant accident (LOCA) sump with minimal impact on electrical equipment qualification (EEQ) margin.

All SSCs function as designed and the performance requirements have been evaluated and found to be acceptable. NaTB will maintain pH ≥ 7.0 in the recirculation water following a LOCA. This function is maintained with the proposed change.

Analysis demonstrates that using NaTB as a buffering agent ensures the post-LOCA containment sump mixture will have a pH ≥ 7.0. The buffering agent is not an accident initiator; therefore, the use of NaTB on a permanent basis will not involve a significant increase in the probability or consequences of an accident previously evaluated.

2. Does the proposed change create the possibility of a new or different kind of accident from any accident previously evaluated?

Response: No.

No new accident scenarios, failure mechanisms, or single failures are introduced because of the proposed changes. All SSCs previously required for mitigation of an event remain capable of fulfilling their intended design function. The proposed changes have no adverse effects on any safety-related system or component and do not challenge the performance or integrity of any safety related system. The long-term use of NaTB as a buffering agent has been evaluated and no new accident scenarios or single failures are introduced.

Therefore, the proposed changes do not create the possibility of a new or different kind of accident from any previously evaluated.

3. Does the proposed change involve a significant reduction in a margin of safety?

Response: No.

Removing the restrictions limiting the use of NaTB to Fuel Cycle 24 to allow long-term operation with NaTB does not affect its capability to maintain the pH of the containment sump ≥ 7.0 post-LOCA. Previous evaluations have shown that NaTB is capable of maintaining the pH of the containment sump ≥ 7.0 post-LOCA. A volume of NaTB that is dependent on hot zero power critical boron concentration has been evaluated previously with respect to neutralization of all borated water and acid sources. These evaluations concluded that there would be no impact on pH control, and hence no reduction in the margin of safety related to post-LOCA conditions.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: James R. Curtiss, Esq., Winston & Strawn, 1700 K Street, NW., Washington, DC 20006-3817.

NRC Branch Chief: Thomas G. Hiltz.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) The applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the internet at the NRC Web site, http://www.nrc.gov/reading-rm/adams.html. If you do not have access to ADAMS or if there are problems in accessing the documents located in ADAMS, contact the PDR Reference staff at 1 (800) 397-4209, (301) 415-4737 or by e-mail to pdr@nrc.gov.

AmerGen Energy Company, LLC, Docket No. 50-289, Three Mile Island Nuclear Station, Unit 1 (TMI-1), Dauphin County, PA

Date of application for amendment: December 12, 2006, as supplemented by letters dated May 31 and July 11, 2007.

Brief description of amendment: The amendment revised Technical Specification Sections 3.8 and 4.1 to delete references to radiation monitors RM-G6, RM-G7 and RM-G9. The administrative requirements for these monitors have been removed from the technical specifications and placed into licensee controlled documents.

Date of issuance: September 26, 2007.

Effective date: As of the date of issuance and shall be implemented within 60 days.

Amendment No.: 260.

Facility Operating License No. DPR-50. Amendment revised the license and the technical specifications.

Date of initial notice in Federal Register: July 3, 2007 (72 FR 36521). The supplemental letters dated May 31 and July 11, 2007, provided additional information that clarified the application, did not expand the scope of the application as originally noticed and did not change the NRC staff's original proposed no significant hazards determination. The Commission's related evaluation of the amendment is contained in a Safety Evaluation dated September 26, 2007.

No significant hazards consideration comments received: No.

Dominion Nuclear Connecticut, Inc., Docket No. 50-336 and 50-423, Millstone Power Station, Unit Nos. 2 and 3 New London County, CT

Date of amendment request: September 1, 2006.

Brief description of amendment: The amendment revises the Millstone Power Station, Unit Nos. 2 and 3 Technical Specifications to replace the terms “trash racks and screens” with the term “strainers.”

Date of issuance: September 18, 2007.

Effective date: As of the date of issuance and shall be implemented within 30 days from the date of issuance.

Amendment Nos.: 300 and 240.

Facility Operating License Nos. DPR-65 and NPF-49: Amendment revised the License and Technical Specifications.

Date of initial notice in Federal Register: October 24, 2006 (71 FR 62308).

The Commission's related evaluation of the amendment is contained in a Safety Evaluation dated September 18, 2007.

No significant hazards consideration comments received: No.

Exelon Generation Company, LLC, and PSEG Nuclear LLC, Docket Nos. 50-277 and 50-278, Peach Bottom Atomic Power Station, Units 2 and 3, York and Lancaster Counties, PA

Date of application for amendments: September 15, 2006.

Brief description of amendments: These amendments modify the Technical Specifications Surveillance Requirement 3.1.4.2, “Control Rod Scram Times” frequency from 120 days to 200 days.

Date of issuance: September 14, 2007.

Effective date: As of the date of issuance, and shall be implemented within 60 days.

Amendments Nos.: 262 and 266.

Renewed Facility Operating License Nos. DPR-44 and DPR-56: The amendments revised the License and Technical Specifications.

Date of initial notice in Federal Register: December 19, 2006 (71 FR 75994).

The Commission's related evaluation of the amendments is contained in a Safety Evaluation dated September 14, 2007.

No significant hazards consideration comments received: No.

Exelon Generation Company, LLC, and PSEG Nuclear LLC, Docket Nos. 50-277 and 50-278, Peach Bottom Atomic Power Station, Units 2 and 3, York and Lancaster Counties, PA

Date of application for amendments: March 6, 2007.

Brief description of amendments: The amendments modify the TS Surveillance Requirement 3.6.1.3.14, “Primary Containment Isolation Valves.” Specifically, the proposed change revises the allowed leakage from 11.5 standard cubic feet per hour (scfh) per valve to 46 scfh total leakage through all four valves.

Date of issuance: September 14, 2007.

Effective date: As of the date of issuance, to be implemented within 30 days.

Amendments Nos.: 263 and 267.

Renewed Facility Operating License Nos. DPR-44 and DPR-56: The amendments revised the License and Technical Specifications.

Date of initial notice in Federal Register: July 24, 2007 (72 FR 40342).

The Commission's related evaluation of the amendments is contained in a Safety Evaluation dated September 14, 2007.

No significant hazards consideration comments received: No.

FPL Energy Duane Arnold, LLC, Docket No. 50-331, Duane Arnold Energy Center, Linn County, IA

Date of application for amendment: February 27, 2004, as supplemented by letters dated August 9, 2004, January 7, 2005, May 11, and August 3, 2007.

Brief description of amendment: The amendment modifies license condition 2.C.(2)(b) to eliminate the requirement to perform a main generator load reject test. The request within the same application to modify license condition 2.C.(2)(b) to remove the requirement to perform a full main steam isolation valve closure test, associated with extended power uprate, resulted in Amendment No. 257, issued on March 17, 2005, under separate correspondence.

Date of issuance: September 20, 2007.

Effective date: As of the date of issuance and shall be implemented within 30 days.

Amendment No.: 266.

Facility Operating License No. DPR-49: The amendment revised the Operating License.

Date of initial notice in Federal Register: April 13, 2004 (69 FR 19572).

The supplemental letters contained clarifying information, did not change the initial no significant hazards consideration determination, and did not expand the scope of the original Federal Register notice.

The Commission's related evaluation of the amendment is contained in a Safety Evaluation dated September 20, 2007.

No significant hazards consideration comments received: No.

Indiana Michigan Power Company, Docket No. 50-316, Donald C. Cook Nuclear Plant, Unit 2, Berrien County, MI

Date of application for amendment: November 3, 2006, as supplemented on June 27, 2007.

Brief description of amendment: The amendment approved elimination of the resistance temperature detector (RTD) bypass piping and installing fast response thermowell-mounted RTDs in the reactor coolant system loop piping. The amendment also revised Surveillance Requirement 3.3.1.15 of the Technical Specifications, deleting the requirement to perform surveillance on the reactor coolant system RTD bypass loop flow rate.

Date of issuance: September 19, 2007.

Effective date: As of the date of issuance and shall be implemented prior to entry into Mode 2 from the fall 2007 refueling outage.

Amendment No.: 280.

Facility Operating License No. DPR-74: Amendment revises the Technical Specifications.

Date of initial notice in Federal Register: January 3, 2007 (72 FR 153).

The Commission's related evaluation of the amendment is contained in a Safety Evaluation dated September 19, 2007.

No significant hazards consideration comments received: No.

Indiana Michigan Power Company, Docket No. 50-316, Donald C. Cook Nuclear Plant, Unit 2, Berrien County, MI

Date of application for amendment: September 15, 2006, as supplemented on April 20, July 6 and July 25, 2007.

Brief description of amendment: The amendment approves a plant design change that modifies the turbine control system, and changes the technical specifications, increasing the associated allowable low control fluid oil pressure from greater than or equal to (≥) 57 pounds per square inch gauge (psig) to ≥750 psig.

Date of issuance: September 21, 2007.

Effective date: As of the date of issuance and shall be implemented prior to entry into Mode 1 after the unit's Cycle 17 (fall 2007) refueling outage.

Amendment No.: 281.

Facility Operating License No. DPR-74: Amendment revises the Technical Specifications. The April 20, July 6, and July 25, 2007, supplements provided additional information that clarified the application, did not expand the scope of the application as originally noticed and did not change the NRC staff's original proposed no significant hazards consideration determination as published in the Federal Register on November 21, 2006 (71 FR 67396).

Date of initial notice in Federal Register: November 21, 2006 (71 FR 67396).

The Commission's related evaluation of the amendment is contained in a Safety Evaluation dated September 21, 2007.

No significant hazards consideration comments received: No.

Pacific Gas and Electric Company, Docket No. 50-133, Humboldt Bay Power Plant, Unit 3, Humboldt County, CA

Date of application for amendment: April 4, 2007.

Brief description of amendment: The amendment revises the license to allow the results of near-term surveys, performed on a portion of the plant site, to be included in the eventual Final Status Survey for license termination.

Date of issuance: September 11, 2007.

Effective date: As of the date of issuance and shall be implemented when a cross contamination prevention and monitoring plan is implemented.

Amendment No.: 40.

Facility Operating License No. DPR-7: This amendment revises the license.

Date of initial notice in Federal Register: July 31, 2007 (72 FR 41787).

The Commission's related evaluation of the amendment is contained in a Safety Evaluation dated September 11, 2007.

No significant hazards consideration comments received: No.

Tennessee Valley Authority, Docket Nos. 50-327 and 50-328, Sequoyah Nuclear Plant, Units 1 and 2, Hamilton County, TN

Date of application for amendments: February 26, 2007, as supplemented on July 26, 2007.

Brief description of amendments: The amendments revise the allowable value for Functional Unit 17.A in Technical Specification Table 2.2-1, “Reactor Trip System Instrumentation Trip Setpoints,” from greater than or equal to 43 pounds per square inch gauge (psig) to 39.5 psig.

Date of issuance: September 20, 2007.

Effective date: As of the date of issuance and shall be implemented within 45 days.

Amendment Nos: 316 and 306.

Facility Operating License Nos. DPR-77 and DPR-79: Amendments revised the technical specifications.

Date of initial notice in Federal Register: April 24, 2007 (72 FR 20385). The July 26, 2007, supplemental letter provided clarifying information that was within the scope of the initial notice and did not change the initial proposed no significant hazards consideration determination.

The Commission's related evaluation of the amendments is contained in a safety evaluation dated September 20, 2007.

No significant hazards consideration comments received: No.

Dated at Rockville, Maryland, this 27th day of September 2007.
For the Nuclear Regulatory Commission.
Catherine Haney,
Director, Division of Operating Reactor, Licensing Office of Nuclear Reactor Regulation.

[FR Doc. E7-19553 Filed 10-5-07; 8:45 am]

BILLING CODE 7590-01-P